SECURITIES AND EXCHANGE COMMISSION

[Release No. 34-84748; File No. SR-CBOE-2018-055]

Self-Regulatory Organizations; Chicago Board Options Exchange, Incorporated; Notice of Withdrawal of a Proposed Rule Change Related To Amend Rule 6.21., Give Up of a Clearing Trading Permit Holder

December 7, 2018.

On August 7, 2018, the Chicago Board Options Exchange, Incorporated (“CBOE”) filed with the Securities and Exchange Commission (“Commission”), pursuant to Section 19(b)(1) of the Securities Exchange Act of 1934 (“Exchange Act”) ¹ and Rule 19b-4 thereunder,² a proposed rule change to amend its rules governing the give up of a Clearing Trading Permit Holder by a Trading Permit Holder on exchange transactions. The proposed rule change was published for comment in the Federal Register on August 23, 2018.³ The Commission received four comments on the proposed rule change.⁴

¹ 15 U.S.C. 78s(b)(1).

² 17 CFR 240.19b-4.

³ See Securities Exchange Act Release No. 83872 (August 17, 2018), 83 FR 42751.

⁴ See Letters to Brent J. Fields, Secretary, Commission, from: (1) Mark Dehnert, Managing Director, Goldman Sachs & Co. LLC, dated August 29, 2018; (2) Matthew R. Scott, President, Merrill Lynch Professional Clearing Corp., dated August 31, 2018; (3) Ellen Greene, Managing Director, Securties Industry Financial Markets Association, dated September 12, 2018; and (4) Scott Warren, Executive Vice President and Chief Administrative Officer, Options Clearing Corporation, dated September 13, 2018. The comment letters are available at https://www.sec.gov/comments/sr-cboe-2018-55/srcboe201855.htm.

On October 3, 2018, CBOE withdrew the proposed rule change (SR-CBOE-2018-055).

For the Commission, by the Division of Trading and Markets, pursuant to delegated authority.⁵
⁵ 17 CFR 200.30-3(a)(12).
Eduardo A. Aleman,
Assistant Secretary.

[FR Doc. 2018-26910 Filed 12-11-18; 8:45 am]

BILLING CODE 8011-01-P